DEPARTMENT OF EDUCATION

Submission for OMB Review; Comment Request

AGENCY: Department of Education.

ACTION: Correction notice.

SUMMARY: On April 14, 2003, the Department of Education published an emergency and 30-day public comment period notice in the Federal Register (page 17928, column 1) for the information collection, “Preparing Tomorrow's Teachers to Use Technology.” The abstract has been amended to read, “PT3 grants will be awarded for three years to prepare future teachers to use advanced learning technologies. These grants will use funds for two specific activities, while also permitting some project-specific activities. Funds must be used for projects that: (1) Create one or two programs that prepare prospective teachers to use advanced technology to prepare all students to meet challenging state and local academic content and student academic achievement standards; (2) evaluate the effectiveness of the projects; and (3) provide project-specific activities that support the purposes of the program to ensure equal access to advanced technology and qualified teachers for all students.” The Leader, Regulatory Management Group, Office of the Chief Information Officer, hereby issues a correction notice as required by the Paperwork Reduction Act of 1995.

FOR FURTHER INFORMATION CONTACT: Joseph Schubart at his e-mail address Joe.Schubart@ed.gov.

Dated: April 16, 2003.
John D. Tressler,
Leader, Regulatory Management Group, Office of the Chief Information Officer.

[FR Doc. 03-9846 Filed 4-21-03; 8:45 am]

BILLING CODE 4000-01-P